ELECTION ASSISTANCE COMMISSION

Sunshine Act Notice

AGENCY: United States Election Assistance Commission (EAC).

ACTION: Notice of Public Meeting Roundtable Discussion.

Date And Time: Friday, April 25, 2008, 9 a.m.-2 p.m. (EST).

Place: United States Election Assistance Commission, 1225 New York Ave, NW., Suite 150, Washington, DC 20005.

Agenda: The Commission will host an election official roundtable discussion of the Technical Guidelines Committee's (TGDC) recommended Voluntary Voting System Guidelines. The discussion will be focused upon the following topics: (1) The usability and readability of the proposed standards; (2) The creation of a risk assessment for voting systems; (3) Stability of the standards vs. the need to create flexible standards that promote innovation; (4) Open Ended Vulnerability Testing (OEVT) and how it fits into the proposed standards; (5) The possible value of the testing of individual components to state and local jurisdictions; (6) Possible changes in scope or depth that would help improve the proposed standard.

This meeting will be open to the public.

Person To Contact For Information: Matthew Masterson, Telephone: (202) 566-3100.

Caroline C. Hunter,
Vice-Chair, U.S. Election Assistance Commission.

[FR Doc. E8-8289 Filed 4-16-08; 8:45 am]

BILLING CODE 6820-KF-M